Title 3—

The President

Proclamation 10354 of March 30, 2022

César Chávez Day, 2022

By the President of the United States of America

A Proclamation

Today we celebrate the life and legacy of César Estrada Chávez, a champion for social justice and advocate for hardworking people who build and sustain our Nation. Born into poverty and raised by migrant workers, Chávez courageously dedicated his life to improving conditions for workers across the country. Chávez witnessed firsthand the inequities of an economy that only served those at the top and left millions of hardworking Americans behind. Today, as we continue to build an economy from the bottom up and the middle out and that rewards work and not just wealth, we stand on the shoulders of César Chávez and carry forward his fight to advance the rights and dignity of working people and fulfill the promise of America for all Americans.

When César Chávez founded the United Farm Workers of America alongside Dolores Huerta, he drew national attention to the many agricultural workers who experience inhumane working conditions and unlivable wages. Through strikes, marches, and boycotts, he inspired millions of people across the country to fight for safe and healthy workplaces, better wages, improved workplace protections from sickness and disability, and other core rights and protections.

In the process, Chávez inspired generations of people across all backgrounds, ages, and industries to organize, bargain, and expand opportunity for workers and their families. His devotion to “La Causa” brought hope to workers and Latinos across the Nation—and his fight for justice, equality, and dignity gave workers and Latinos everywhere a voice. Today, we must summon the same courage and moral clarity to carry his legacy forward so that everyone has a fair shot at the American dream.

That is why my Administration continues to urge the Congress to pass the Protecting the Right to Organize Act and the Farm Workforce Modernization Act—so farmworkers can bargain collectively, obtain legal status, and have better working conditions. It is why I fought hard to pass the American Rescue Plan early in my Administration to ensure Latino workers, families, and small businesses had the protections and financial support they needed to pay rent and put food on their table. It is why I appointed Marty Walsh, a former union leader, to lead the Department of Labor—because he understands how union workers hold this country together. It is why my Administration created an historic Task Force on Worker Organizing and Empowerment—because I believe in empowering workers to organize and providing those that put food on our table an earned pathway to citizenship.

As our Nation celebrates César Chávez's 95th birthday, let us keep the lessons he taught in our minds and the values he lived by in our hearts: the power of workers to bargain for a better deal, strength in the face of extraordinary adversity, and the conviction to fight for what we believe in.

When I became President, I proudly placed a bust of César Chávez in the Oval Office—a constant reminder of the enduring values he embodied, the vision of freedom he fought for, and his commitment to social justice and equal dignity that we must uphold each and every day.

NOW, THEREFORE, I, JOSEPH R. BIDEN JR., President of the United States of America, by virtue of the authority vested in me by the Constitution and the laws of the United States, do hereby proclaim March 31, 2022, as César Chávez Day. I call upon all Americans to observe this day as a day of service and learning, with appropriate service, community, and education programs to honor César Chávez's enduring legacy.

IN WITNESS WHEREOF, I have hereunto set my hand this thirtieth day of March, in the year of our Lord two thousand twenty-two, and of the Independence of the United States of America the two hundred and forty-sixth.

[FR Doc. 2022-07134

Filed 3-31-22; 11:15 am]

Billing code 3395-F2-P